FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than January 17, 2020.

A. Federal Reserve Bank of Chicago (Colette A. Fried, Assistant Vice President) 230 South LaSalle Street, Chicago, Illinois 60690-1414:

1. The Apple River State Bank Employee Ownership Plan, Apple River State Bank, trustee; to acquire voting shares of First Apple River Corporation and thereby indirectly acquire voting shares of Apple River State Bank, all of Apple River, Illinois.

B. Federal Reserve Bank of Minneapolis (Mark A. Rauzi, Vice President) 90 Hennepin Avenue, Minneapolis, Minnesota 55480-0291:

1. John E. Babcock, Anoka, Minnesota; to retain voting shares of Metro North Bancshares, Inc. and thereby indirectly retain voting shares of The Bank of Elk River, both of Elk River, Minnesota.

Board of Governors of the Federal Reserve System, December 27, 2019.
Ann Misback,
Secretary of the Board.

[FR Doc. 2019-28302 Filed 12-31-19; 8:45 am]

BILLING CODE P